DEPARTMENT OF COMMERCE

National Oceanic and Atmospheric Administration

[I.D. 030503A]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 25-26, 2003. The Council will convene on Tuesday, March 25, 2003, from 9 a.m. to 4 p.m., and the Administrative Committee will meet from 4:15 p.m. to 5:30 p.m. The Council will reconvene on Wednesday, March 26, 2003, from 9 a.m. to 5 p.m., approximately.

ADDRESSES: The meetings will be held at the Wyndham Sugar Bay Beach Club and Resort, 6500 Estate Smith Bay, St. Thomas, U.S.V.I.

FOR FURTHER INFORMATION CONTACT: Caribbean Fishery Management Council, 268 Munoz Rivera Avenue, Suite 1108, San Juan, Puerto Rico 00918-1920, telephone: (787) 766-5926.

SUPPLEMENTARY INFORMATION: The Council will hold its 111th regular public meeting to discuss the items contained in the following agenda:

March 25, 2003, 9:00 a.m. 4:00 p.m.

A. Call to Order

B. The Role of Marine Reserves in Conservation Ethics and Ecosystem-Based Management - Dr. Jim Bohnsack

C. Essential Fish Habitat (EFH)-Draft Environmental Impact Statement (DEIS) Progress Report

-Schedule for the Submissions of DEIS

-Agenda items for Scientific and Statistical Committee (SSC)/Habitat Advisory Panel (HAP) Meeting April 24-25, 2003

D. Recommendations from Fisheries Workshops - Dr. Lee Carrubba

E. Stomach Analysis of Deep Water Snappers - Dr. Edgardo Ortiz, 4:15 p.m. - 5:30 p.m.

A. Administrative Committee Meeting

-Advisory Panel (AP)/SSC/HAP Membership

-Budget: 2002, 2003, 2004-05

-Queen Conch Initiative --Projects for Education and Scientific Literature

-Personnel Issues and Statement of Organization, Practices and Procedures (SOPPs)

-Other Business

March 26, 2003, 9 a.m. - 5 p.m.

A. Sustainable Fisheries Act (SFA):

-Status Criteria of Species: Discussion of Table 4 of SFA Document G. Garcia-Moliner

-Schedule to Finish the Caribbean Fishery Management Council/SFA Document

B. Enforcement

-Federal Government

-Puerto Rico

-U.S. Virgin Islands

-U.S. Coast Guard

C. Administrative Committee Recommendations

-March 25, 2003

D. Meetings Attended by Council Members and Staff

-Chairs and Executive Directors' Meeting, Washington, D.C.

-Enforcement Conference, Dominican Republic

-Coral Reef Task Force Meeting, Washington, D.C.

-Southeast Data and Review (SEDAR) Workshop, St. Petersburg, Fl.

E. Other Business

F. Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone: (787) 766-5926, at least 5 days prior to the meeting date.

Dated: March 5, 2003.
Theophilus R. Brainerd,
Acting Director, Office of Sustainable Fisheries National Marine Fisheries Service.

[FR Doc. 03-5758 Filed 3-10-03; 8:45 am]

BILLING CODE 3510-22-S